ENVIRONMENTAL PROTECTION AGENCY

[FRL-7957-9]

Notice of Proposed Agreement Pursuant to the Comprehensive Environmental Response, Compensation and Liability Act of 1980, as Amended by the Superfund Amendments and Reauthorization Act (CERCLA), and the Resource Conservation and Recovery Act (RCRA), Garvey Elevator Site, Hastings, NE

AGENCY: Environmental Protection Agency (EPA).

ACTION: Notice of proposed agreement for the Garvey Elevator Site.

SUMMARY: In accordance with section 122(i)(1) of the Comprehensive Environmental Response, Compensation and Liability Act, as amended (CERCLA), 42 U.S.C. 9622(i)(1), and section 7003(d) of the Resource Conservation and Recovery Act (RCRA), 42 U.S.C. 9673(d), notice is hereby given of a proposed agreement concerning the Garvey Elevator Site (Site) located in Hastings, Nebraska, with AGP Grain Marketing, LLC (AGP) and Garvey Elevators, Inc. (Garvey). The agreement was executed by the United States Environmental Protections Agency on July 11, 2005, and concurred upon by the United States Department of Justice on August 8, 2005. The agreement would resolve certain potential CERCLA and RCRA claims against AGP Grain Marketing, LLC, and is subject to final approval after the comment period.

The Site is an active grain elevator facility. The proposed agreement requires AGP Grain Marketing, LLC to pay $2,050,000.00 into an escrow account following the sale of the Site property to AGP to be used by Garvey to implement response actions at the Site. In addition, AGP will be required to provide access to the Site, refrain from any activity that would interfere with the response actions or exacerbate the existing contamination at the Site, and comply with certain use restrictions. Appendix A to the Agreement is the Escrow Agreement that details the process for EPA to approve disbursements from the Escrow Fund. The Escrow Agreement also provides for a Security Agreement to be executed by Garvey and EPA. The proposed agreement grants AGP a covenant not to sue pursuant to sections 106 and 107(a) of CERCLA, 42 U.S.C. 9606 and 9607(a), subject to certain EPA reservations of rights.

This notice is also given in accordance with section 7003(d) of RCRA. The proposed agreement also includes an EPA covenant not to sue AGP pursuant to section 7003 of RCRA, 42 U.S.C. 9673. Commenters may request an opportunity for a public meeting in the affected area in accordance with section 7003(d) of RCRA, 42 U.S.C. 9673(d).

For thirty (30) days following the date of publication of this notice, EPA will receive written comments relating to the proposed agreement. EPA will consider all comments received, and may withdraw or withhold its consent to the proposed agreement if such comments disclose facts or considerations which indicate the proposed settlement is inappropriate, improper or inadequate. EPA's response to any written comments received will be available for public inspection at the U.S. Environmental Protection Agency, Region VII, 901 N. 5th Street, Kansas City, KS 66101, and at a local information repository near the Site.

DATES: Comments must be submitted on or before September 22, 2005.

ADDRESSES: The proposed agreement is available for public inspection at the U.S. Environmental Protection Agency, Region VII, 901 N. 5th Street, Kansas City, Kansas 66101. A copy of the proposed agreement may be obtained from Alyse Stoy, Assistant Regional Counsel, U.S. Environmental Protection Agency, Region VII, 901 N. 5th Street, Kansas City, Kansas 66101, (913) 551-7826. Comments should be addressed to Alyse Stoy at the above address or by e-mail at stoy.alyse@epa.gov, and should reference the Garvey Elevator Site Agreement, Hastings, Nebraska, and U.S. EPA Region VII Docket No. CERCLA-07-2005-0268.

FOR FURTHER INFORMATION CONTACT: Alyse Stoy, Assistant Regional Counsel, U.S. Environmental Protection Agency, Region VII, 901 N. 5th Street, Kansas City, Kansas 66101, (913) 551-7826, or by e-mail at stoy.alyse@epa.gov.

Dated: August 10, 2005.
William Rice,
Acting Regional Administrator, Region VII.

[FR Doc. 05-16690 Filed 8-22-05; 8:45 am]

BILLING CODE 6560-50-P